Title 3—

The President

Executive Order 13439 of July 18, 2007

Establishing an Interagency Working Group on Import Safety

By the authority vested in me as President by the Constitution and the laws of the United States of America, and to ensure that the executive branch takes all appropriate steps to promote the safety of imported products, it is hereby ordered as follows:

Section 1. Establishment of Interagency Working Group on Import Safety. The Secretary of Health and Human Services shall establish within the Department of Health and Human Services for administrative purposes only an Interagency Working Group on Import Safety (Working Group).

Sec. 2. Membership and Operation of Working Group.

(a) The Working Group shall consist exclusively of the following members, or their designees who shall be officers of the United States appointed by the President or members of the Senior Executive Service:

(i) the Secretary of Health and Human Services, who shall serve as Chair;

(ii) the Secretary of State;

(iii) the Secretary of the Treasury;

(iv) the Attorney General;

(v) the Secretary of Agriculture;

(vi) the Secretary of Commerce;

(vii) the Secretary of Transportation;

(viii) the Secretary of Homeland Security;

(ix) the Director of the Office of Management and Budget;

(x) the United States Trade Representative;

(xi) the Administrator of the Environmental Protection Agency;

(xii) the Chairman of the Consumer Product Safety Commission; and

(xiii) other officers or full-time or permanent part-time employees of the United States, as determined by the Chair, with the concurrence of the head of the department or agency concerned.

(b) The Chair shall convene and preside at meetings of the Working Group, determine its agenda, and direct its work. The Chair may establish and direct subgroups of the Working Group, as appropriate to deal with particular subject matters, that shall consist exclusively of members of the Working Group. The Chair shall designate an officer or employee of the Department of Health and Human Services to serve as the Executive Secretary of the Working Group. The Executive Secretary shall head any staff assigned to the Working Group and any subgroups thereof, and such staff shall consist exclusively of full-time or permanent part-time Federal employees.

Sec. 3. Mission of Working Group. The mission of the Working Group shall be to identify actions and appropriate steps that can be pursued, within existing resources, to promote the safety of imported products, including the following:

(a) reviewing or assessing current procedures and methods aimed at ensuring the safety of products exported to the United States, including reviewing existing cooperation with foreign governments, foreign manufacturers, and others in the exporting country's private sector regarding their inspection and certification of exported goods and factories producing exported goods and considering whether additional initiatives should be undertaken with respect to exporting countries or companies;

(b) identifying potential means to promote all appropriate steps by U.S. importers to enhance the safety of imported products, including identifying best practices by U.S. importers in selection of foreign manufacturers, inspecting manufacturing facilities, inspecting goods produced on their behalf either before export or before distribution in the United States, identifying origin of products, and safeguarding the supply chain; and

(c) surveying authorities and practices of Federal, State, and local government agencies regarding the safety of imports to identify best practices and enhance coordination among agencies.

Sec. 4. Administration of Working Group. The Chair shall, to the extent permitted by law, provide administrative support and funding for the Working Group.

Sec. 5. Recommendations of Working Group. The Working Group shall provide recommendations to the President, through the Assistant to the President for Economic Policy, on the matters set forth in section 3 within 60 days of the date of this order, unless the Chair determines that an extension is necessary. The Working Group may take other actions it considers appropriate to promote the safety of imported products.

Sec. 6. Termination of Working Group. Following consultation with the Assistant to the President for Economic Policy, the Chair shall terminate the Working Group upon the completion of its duties.

Sec. 7. General Provisions.

(a) Nothing in this order shall be construed to impair or otherwise affect (i) authority granted by law to a department, agency, or the head thereof, or (ii) functions of the Director of the Office of Management and Budget relating to budget, administrative, or legislative proposals.

(b) This order shall be implemented consistent with applicable law and subject to the availability of appropriations.

(c) This order is not intended to, and does not, create any right, benefit, or privilege, substantive or procedural, enforceable at law or in equity, by any party against the United States, its departments, agencies, or entities, its officers, employees, or agents, or any other person.

THE WHITE HOUSE,

July 18, 2007.

[FR Doc. 07-3593

Filed 07-19-07; 10:46 am]

Billing code 3195-01-P